DEPARTMENT OF DEFENSE

Office of the Secretary

[DoD-2006-OS-0093]

32 CFR Part 78

Voluntary State Tax Withholding From Retired Pay

AGENCY: Department of Defense.

ACTION: Final rule.

SUMMARY: The Department of Defense is administratively amending 32 CFR Part 78, “Voluntary State Tax Withholding From Retired Pay” to identify the location of the policy and procedures for Voluntary State Tax Withholding from Retired Pay in the DoD Directives System. All other information remains unchanged.

DATES: This rule is effective July 18, 2006.

FOR FURTHER INFORMATION CONTACT: L. Bynum, 703-696-4970.

SUPPLEMENTARY INFORMATION: DoD Directive 1332.34, which was originally codified in the CFR as 32 CFR part 78, has been removed from the DoD Directives System. The sentence added to inform readers that were previously used to making cross-reference to the Directive will now know where to locate additional information.

List of Subjects in 32 CFR Part 78

Income taxes, Intergovernmental relations, Military personnel, Pensions.

Accordingly, 32 CFR part 78 is amended as follows:

PART 78—VOLUNTARY STATE TAX WITHHOLDING FROM RETIRED PAY

1. The authority citation for 32 CFR part 78 continues to read as follows:

Authority: 10 U.S.C. 1045.

2. Section 78.1 is amended by adding a sentence at the end of the section to read as follows:

§ 78.1 Purpose.

* * * The policy and procedures for this part are also located in the DoD Financial Management Regulation (“DoDFMR”), Volume 7B, Chapter 26, “State and Local Taxes” (DoD 7000.14-R).

Dated: July 12, 2006.
L.M. Bynum,
OSD Federal Register Liaison Officer, Department of Defense.

[FR Doc. E6-11324 Filed 7-17-06; 8:45 am]

BILLING CODE 5001-06-P